DEPARTMENT OF HEALTH AND HUMAN SERVICES

Centers for Disease Control and Prevention

Notice of Annual Meeting

The Vessel Sanitation Program, National Center for Environmental Health, Centers for Disease Control and Prevention (CDC), announces the following meeting:

Name: Vessel Sanitation Program: Annual Program Status Update and Experience to Date with Program Operations.

Time and Date: 9 a.m. to 4 p.m., June 12, 2009.

Location: Auditorium, Port Everglades Administration Building, 1850 Eller Drive, Fort Lauderdale, Florida 33316.

Status: The meeting is open to the public, but space is limited. The meeting room can accommodate approximately 100 persons. Annual attendees normally include cruise ship industry officials, private sanitation consultants, and other interested parties.

Meeting Objectives

CDC staff will update attendees on the current status of program topics, including but not limited to the following:

• 2008 Program Review.

• Proposed revisions to the Vessel Sanitation Program Operations Manual 2005.

• Proposed revisions to the Vessel Sanitation Program Construction Guidelines 2005.

• Updates on cruise ship outbreaks.

An official record of this meeting will remain open for 15 days (through June 27, 2009) so that additional materials or comments may be submitted and made part of the record.

Advanced registration is encouraged. You may contact Stephanie Lawrence to register in advance or to receive additional information about the meeting. Ms. Lawrence can be reached by phone (770-488-3141), fax (770-488-4127), or e-mail (slawrence@cdc.gov). Please provide your name, title, company name, mailing address, telephone number, fax number, and e-mail address when contacting Ms. Lawrence.

Dated: April 8, 2009.
Carlton Duncan,
Deputy Chief Operating Officer, Centers for Disease Control and Prevention.

[FR Doc. E9-8631 Filed 4-14-09; 8:45 am]

BILLING CODE 4163-18-P